SUSQUEHANNA RIVER BASIN COMMISSION

Actions Taken at the September 12, 2024 Meeting

AGENCY: Susquehanna River Basin Commission.

ACTION: Notice.

SUMMARY: As part of its regular business meeting held on September 12, 2024, in Baltimore, Maryland, the Commission approved the applications of certain water resources projects and took additional actions, as set forth in the SUPPLEMENTARY INFORMATION below.

DATES: September 12, 2024.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.gov. Regular mail inquiries may be sent to the above address. See also the Commission website at www.srbc.gov.

SUPPLEMENTARY INFORMATION: In addition to the actions taken on projects identified in the summary above, these actions were also taken: (1) adopted a preliminary Fiscal Year 2026 budget; (2) unanimously adopted the member jurisdiction allocation requests for Fiscal Year 2026; (3) adopted a final rulemaking for establishing bid protest procedures, memorializing the Commission's Dry Cooling Resolution and other changes to Part 801; (4) approved four grant amendments; and (5) actions on 24 regulatory program projects.

Project Applications Approved

1. Project Sponsor and Facility: Amazon Data Services, Inc. Project Facility: PHL100 Data Center Campus, Salem Township, Luzerne County, Pa. Application for consumptive use of up to 0.060 mgd (30-day average).

2. Project Sponsor and Facility: Ashland Area Municipal Water Authority, Butler Township, Schuylkill County, Pa. Application for renewal of groundwater withdrawal of up to 0.115 mgd (30-day average) from Well 5 (Docket No. 19931101). Service area is located in an Environmental Justice area.

3. Project Sponsor: Borough of Middletown. Project Facility: Middletown Water System, Borough of Middletown, Dauphin County, Pa. Application for renewal of groundwater withdrawal of up to 1.070 mgd (30-day average) from Well 6 (Docket No. 19970702). Service area is located in an Environmental Justice area.

4. Project Sponsor and Facility: Caernarvon Township Authority, Caernarvon Township, Berks County, Pa. Application for renewal of groundwater withdrawal of up to 0.317 mgd (30-day average) from Well 8 (Docket No. 19940902). Service area is located in an Environmental Justice area.

5. Project Sponsor and Facility: Chesapeake Appalachia, L.L.C. (Loyalsock Creek), Forksville Borough, Sullivan County, Pa. Application for renewal and modification of surface water withdrawal of up to 1.500 mgd (peak day) (Docket No. 20190903).

6. Project Sponsor and Facility: Clear Water Technology, LLC (Middle Branch Wyalusing Creek), Forest Lake Township, Susquehanna County, Pa. Application for surface water withdrawal of up to 1.440 mgd (peak day).

7. Project Sponsor and Facility: Dillsburg Area Authority, Franklin Township, York County, Pa. Application for renewal of groundwater withdrawal of up to 0.199 mgd (30-day average) from Well 3 (Docket No. 20081207).

8. Project Sponsor: Greater Hazleton Community-Area New Development Organization, Inc. Project Facility: CAN DO, Inc.—Corporate Center, Butler Township, Luzerne County, Pa. Application for renewal of groundwater withdrawal of up to 0.547 mgd (30-day average) from Well 1 (Docket No. 20090309).

9. Project Sponsor and Facility: Jersey Shore Area Joint Water Authority, Pine Creek Township, Clinton County, Pa. Application for groundwater withdrawal of up to 0.452 mgd (30-day average) from Pine Creek Well 1, which is an increase of the quantity established in Certificate of Registration No. GF-202012137.

10. Project Sponsor and Facility: JKLM Energy, LLC (Mill Creek), Rutland Township, Tioga County, Pa. Application for surface water withdrawal of up to 0.600 mgd (peak day).

11. Project Sponsor and Facility: JKLM Energy, LLC (Tioga River), Lawrenceville Borough, Tioga County, Pa. Application for renewal with an increase of surface water withdrawal of up to 1.800 mgd (peak day) (Docket No. 20230610).

12. Project Sponsor and Facility: Municipal Authority of the Borough of Mansfield, Richmond Township, Tioga County, Pa. Application for renewal of groundwater withdrawal of up to 0.173 mgd (30-day average) from Well 1 (Docket No. 19940707).

13. Project Sponsor and Facility: Pennsylvania General Energy Company, L.L.C. (Loyalsock Creek), Plunketts Creek Township, Lycoming County, Pa. Application for renewal of surface water withdrawal of up to 2.000 mgd (peak day) (Docket No. 20231213).

14. Project Sponsor: The Procter & Gamble Paper Products Company. Project Facility: Mehoopany Plant, Washington Township, Wyoming County, Pa. Application for renewal of consumptive use of up to 2.750 mgd (peak day) (Docket No. 19940704).

15. Project Sponsor and Facility: Repsol Oil & Gas USA, LLC (Lycoming Creek), McIntyre Township, Lycoming County, Pa. Application for renewal of surface water withdrawal of up to 2.000 mgd (peak day) (Docket No. 20190910).

16. Project Sponsor and Facility: Seneca Resources Company, LLC (Marsh Creek), Delmar Township, Tioga County, Pa. Application for renewal of surface water withdrawal of up to 0.499 mgd (peak day) (Docket No. 20190911).

17. Project Sponsor and Facility: Shrewsbury Borough, York County, Pa. Application for renewal of groundwater withdrawal of up to 0.120 mgd (30-day average) from the Woodlyn Well (Docket No. 19920501).

18. Project Sponsor and Facility: State College Borough Water Authority, Benner Township, Centre County, Pa. Applications for renewal of groundwater withdrawal (30-day averages) of up to 1.584 mgd from Well 17, 0.576 mgd from Well 18, and 1.512 mgd from Well 19 (Docket No. 19930501).

19. Project Sponsor: TableTrust Brands LLC. Project Facility: Freebird East, Bethel Township, Lebanon County, Pa. Application for renewal of groundwater withdrawal of up to 0.199 mgd (30-day average) from Well 8 (Docket No. 19990701).

20. Project Sponsor: UGI Development Company. Project Facility: Hunlock Creek Energy Center (Susquehanna River), Hunlock Township, Luzerne County, Pa. Applications for renewal of surface water withdrawal of up to 55.050 mgd (peak day) and consumptive use of up to 2.396 mgd (peak day) (Docket No. 20090916).

21. Project Sponsor and Facility: Williamsburg Municipal Authority, Catharine Township, Blair County, Pa. Application for renewal of groundwater withdrawal of up to 0.180 mgd (30-day average) from Well 3 (Docket No. 19940702).

22. Project Sponsor and Facility: XTO Energy Inc. (West Branch Susquehanna River), Chapman Township, Clinton County, Pa. Application for renewal of surface water withdrawal of up to 2.000 mgd (peak day) (Docket No. 20190912). Located in an Environmental Justice area.

Projects Tabled

1. Project Sponsor: New Enterprise Stone & Lime Co., Inc. Project Facility: Roaring Spring Quarry (Halter Creek 2), Taylor Township, Blair County, Pa. Applications for renewal of consumptive use of up to 0.380 mgd (peak day) and surface water withdrawal of up to 0.288 mgd (peak day) (Docket No. 19940705 and Certificate of Registration No. GF-202204215).

2. Project Sponsor and Facility: Strasburg Lancaster County Borough Authority, Strasburg Township, Lancaster County, Pa. Application for renewal of groundwater withdrawal of up to 0.275 mgd (30-day average) from the Fisher Well (Docket No. 19890107). Service area is located in an Environmental Justice area.

Authority: Public Law 91-575, 84 Stat. 1509 et seq., 18 CFR parts 806, 807, and 808.

Dated: September 18, 2024.
Jason E. Oyler,
General Counsel and Secretary to the Commission.

[FR Doc. 2024-21698 Filed 9-25-24; 8:45 am]

BILLING CODE 7040-01-P